NATIONAL AERONAUTICS AND SPACE ADMINISTRATION

[Notice (02-040)]

NASA Advisory Council, Space Science Advisory Committee, Structure and Evolution of the Universe Subcommittee; Meeting

AGENCY: National Aeronautics and Space Administration, (NASA).

ACTION: Notice of meeting.

SUMMARY: In accordance with the Federal Advisory Committee Act, Public Law 92-463, as amended, the National Aeronautics and Space Administration announces a meeting of the NASA Advisory Council, Space Science Advisory Committee, Structure and Evolution of the Universe Subcommittee.

DATES: Tuesday, April 9, 2002, 8:30 a.m. to 5 p.m., and Wednesday, April 10, 2002, 8:30 to 5 p.m.

ADDRESSES: NASA Headquarters, 300 E Street, SW., Conference Room 9H40, Washington, DC 20546.

FOR FURTHER INFORMATION CONTACT: Ms. Marian Norris, Code SB, National Aeronautics and Space Administration, Washington, DC 20546, (202) 358-4452.

SUPPLEMENTARY INFORMATION: The meeting will be open to the public up to the capacity of the room. The agenda for the meeting includes the following topics:

—Status of the Space Science Enterprise

—Structure and Evolution of the Universe Overview:

—Budget, Ongoing Programs, Future Activities

—Structure and Evolution of the Universe Roadmap and Strategic Planning

—Structure and Evolution of the Universe Missions Update

—Plans for the Structure and Evolution of the Universe Working Groups

It is imperative that the meeting be held on these dates to accommodate the scheduling priorities of the key participants. Visitors will be requested to sign a visitor's register.

Sylvia K. Kraemer,
Advisory Committee Management Officer, National Aeronautics and Space Administration.

[FR Doc. 02-6498 Filed 3-18-02; 8:45 am]

BILLING CODE 7510-01-P